ENVIRONMENTAL PROTECTION AGENCY

[FRL-7415-4]

CERCLA Administrative Consent Order Containing Proposed Past Costs Settlement Related to the Butternuts Landfill Superfund Site, Town of Butternuts, Otsego County, NY

AGENCY: Environmental Protection Agency.

ACTION: Notice; request for public comment.

SUMMARY: In accordance with Section 122(i) of the Comprehensive Environmental Response, Compensation, and Liability Act of 1980, amended (“CERCLA”), 42 U.S.C. 9622(i), notice is hereby given by the U.S. Environmental Protection Agency (“EPA”), Region II, of an administrative consent order (“Order”) pursuant to sections 104, 106, 107, and 122 of CERCLA 42 U.S.C. 9604, 9606, 9607, and 9622, addressing, inter alia, proposed recovery of past response costs paid by EPA with regard to the Butternuts Landfill Superfund Site (“Site”) located in the Town of Butternuts, Otsego County, New York. The Order requires the settling party, Hugo Neu Schnitizer East (“Respondent”), to perform a removal action at the Site and also pay $40,000 in reimbursement of EPA's past response costs at the Site. The settlement includes a covenant not to sue the Respondent pursuant to sections 106 and 107(a) of CERCLA, 42 U.S.C. 9606, 9607(a), for performance of the removal action and for recovery of EPA's past costs and oversight costs.

For thirty (30) days following the date of publication of this notice, EPA will receive written comments relating only to the portion of the Order which settles EPA's claim for recovery of its past response costs. EPA will consider all such comments received and may modify or withdraw its consent to the past costs settlement if comments received disclose facts or considerations that indicate that the proposed past costs settlement is inappropriate, improper or inadequate. EPA's response to any comments received will be available for public inspection at EPA Region II office at 290 Broadway, 18th floor, New York, New York 10007-1866.

DATES: Comments must be submitted on or before January 2, 2003.

ADDRESSES: The Order is available for public inspection at EPA's Region II office at 290 Broadway, 18th floor, New York, New York 10007-1866. Comments should reference the Butternuts Landfill Superfund Site located in the Town of Butternuts, Otsego County, New York, Index No. CERCLA-02-2002-2028. To request a copy of the Order, please contact the individual identified below.

FOR FURTHER INFORMATION CONTACT: Henry Guzmán, Assistant Regional Counsel, New York/Caribbean Superfund Branch, Office of Regional Counsel, U.S. Environmental Protection Agency, 17th Floor, 290 Broadway, New York, New York 10007-1866. Telephone: 212-637-3166.

Dated: November 15, 2002.
William J. Muszynski,
Deputy Regional Administrator, Environmental Protection Agency, Region 2.

[FR Doc. 02-30464 Filed 11-29-02; 8:45 am]

BILLING CODE 6560-50-M